DEPARTMENT OF DEFENSE

Office of the Secretary

32 CFR Part 206

[Docket ID: DOD-2017-OS-0055]

RIN 0790-AJ93

National Security Education Program (NSEP) Grants to Institutions of Higher Education

AGENCY: Under Secretary of Defense for Personnel and Readiness, DoD.

ACTION: Final rule.

SUMMARY: This final rule will remove DoD's regulation that relates to the administration of the Boren grants program as sections pertinent to the public were incorporated into the revision of DoD's regulation titled “National Security Education Program (NSEP) and NSEP Service Agreement” on December 5, 2016. This rule has been superseded, is unnecessary, and can be removed.

DATES: This rule is effective on June 27, 2018.

FOR FURTHER INFORMATION CONTACT: Dr. Sam Eisen at 571-256-0760.

SUPPLEMENTARY INFORMATION: It has been determined that publication of this CFR part removal for public comment is impracticable, unnecessary, and contrary to public interest since its content was incorporated into another CFR part for which public comment was taken.

The removal of this part eliminates text which has been superseded at 32 CFR part 208, therefore, it will not change the regulatory impact on the public. This removal is administrative in nature and does not result in a burden reduction or cost savings to the public.

DoD internal guidance concerning the administration of the Boren grants program will continue to be published in DoD Instruction 1025.02 available at http://www.esd.whs.mil/Portals/54/Documents/DD/issuances/dodi/102502_dodi_2017.pdf.

This rule is not significant under Executive Order (E.O.) 12866, “Regulatory Planning and Review,” therefore, E.O. 13771, “Reducing Regulation and Controlling Regulatory Costs” does not apply.

List of Subjects in 32 CFR Part 206

Colleges and universities, Grant programs—education.

PART 206—[REMOVED]

Accordingly, by the authority of 5 U.S.C. 301, 32 CFR part 206 is removed.

Dated: June 21, 2018.
Aaron T. Siegel,
Alternate OSD Federal Register Liaison Officer, Department of Defense.

[FR Doc. 2018-13759 Filed 6-26-18; 8:45 am]

BILLING CODE 5001-06-P